DEPARTMENT OF ENERGY

Federal Energy Regulatory Commission

Combined Notice of Filings #1

Take notice that the Commission received the following electric rate filings:

Docket Numbers: ER14-962-000.

Applicants: Southwest Power Pool, Inc.

Description: 2642 Steele Flats Wind Project, LLC Interim GIA to be effective 12/13/2013.

Filed Date: 1/8/14.

Accession Number: 20140108-5096.

Comments Due: 5 p.m. ET 1/29/14.

Docket Numbers: ER14-963-000.

Applicants: TransAlta Wyoming Wind LLC.

Description: Notice of Succession to Market Based Rate Tariff to be effective 1/9/2014.

Filed Date: 1/8/14.

Accession Number: 20140108-5183.

Comments Due: 5 p.m. ET 1/29/14.

Docket Numbers: ER14-964-000.

Applicants: Pleasant Valley Wind, LLC.

Description: Pleasant Valley Wind LLC MBR Tariff Filing to be effective3/10/2014.

Filed Date: 1/8/14.

Accession Number: 20140108-5191.

Comments Due: 5 p.m. ET 1/29/14.

Docket Numbers: ER14-965-000.

Applicants: Border Winds Energy, LLC.

Description: Border Winds Energy MBR Filing to be effective 3/10/2014.

Filed Date: 1/8/14.

Accession Number: 20140108-5192.

Comments Due: 5 p.m. ET 1/29/14.

Docket Numbers: ER14-966-000.

Applicants: Champlain VT, LLC.

Description: Application to Sell Transmission Rights at Negotiated Rates of Champlain VT, LLC.

Filed Date: 1/8/14.

Accession Number: 20140108-5211.

Comments Due: 5 p.m. ET 1/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: ttp://www.ferc.gov/docs-filing/efiling/filing-req.pdf. For other information, call (866) 208-3676 (toll free). For TTY, call (202) 502-8659.

Dated: January 9, 2014.
Nathaniel J. Davis, Sr.,
Deputy Secretary.

[FR Doc. 2014-00742 Filed 1-16-14; 8:45 am]

BILLING CODE 6717-01-P